DEPARTMENT OF HEALTH AND HUMAN SERVICES

Centers for Disease Control and Prevention

[30Day-09-09AH]

Agency Forms Undergoing Paperwork Reduction Act Review

The Centers for Disease Control and Prevention (CDC) publish a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Improving the Quality and Delivery of CDC's Heart Disease and Stroke Prevention Programs—New—Division for Heart Disease and Stroke Prevention (DHDSP), National Center for Chronic Disease Prevention and Health Promotion (NCCDPHP), Centers for Disease Control and Prevention (CDC).

Background and Brief Description

Heart disease and stroke are among the most widespread and costly causes of death and disability in the U.S., but are also among the most preventable health problems. In 2006, CDC created the Division of Heart Disease and Stroke Prevention (DHDSP) to provide national leadership for efforts to reduce the burden of disease, disability, and death from heart disease and stroke.

Many heart disease and stroke prevention and control activities are conducted through DHDSP-funded heart disease and stroke prevention programs. The DHDSP's key partners include State and local health departments, public health organizations, community organizations, nonprofit organizations, and professional organizations. The DHDSP supports partners by conducting trainings, providing scientific guidance and technical assistance, and producing scientific information and supporting tools. For example, the DHDSP provides training to States on how to implement and evaluate their programs and provides guidance on how to best apply evidence-based practices. In addition the DHDSP translates its scientific studies into informational products, such as on-line reports and trend data.

Over the next three years, DHDSP plans to conduct a series of information collections based on a reference set of questions that address relevance, quality and impact of DHDSP services and guidance. A generic clearance is requested in order to provide flexibility in the content and timing of specific information collections. Surveys tailored to specific public health partners, services, or other programmatic initiatives will be developed from the reference set of pre-approved questions. A small number of demographic and descriptive questions may be included in specific surveys to assess the extent to which perceptions and use of DHDSP services vary across types of respondents. Whenever feasible, information will be collected electronically to reduce burden on respondents. In addition, information may be collected through in-person or telephone interviews or focus groups when Web-based surveys are impractical or when in-depth responses are required.

The evaluation information will be used to determine whether DHDSP activities and products are reaching the intended audiences, whether they are deemed to be useful by those audiences, and whether DHDSP efforts improve public health practices. Finally, the generic clearance format will allow the DHDSP to identify new programmatic opportunities and to respond to partners' concerns.

There are no costs to respondents other than their time. The total estimated annualized burden hours are 491.

Estimated Annualized Burden Hours
Type of respondent | Data collection mechanism | Number of respondents | Average burden per response (in hours)
State and Local Health Departments | Web-based survey | 250 | 30/60
| Interview | 30 | 1
| Focus group | 32 | 1
Private Sector Partners | Web-based survey | 180 | 30/60
| Interview | 90 | 1
| Focus group | 48 | 1
Academic Institutions | Web-based survey | 60 | 30/60
| Interview | 30 | 1
| Focus group | 16 | 1

Dated: May 14, 2009.
Maryam I. Daneshvar,
Acting Reports Clearance Officer, Centers for Disease Control and Prevention.

[FR Doc. E9-11895 Filed 5-20-09; 8:45 am]

BILLING CODE 4163-18-P